DEPARTMENT OF HOUSING AND URBAN DEVELOPMENT

[Docket No. FR-6191-N-03]

Section 8 Housing Choice Vouchers: Implementation of the Housing Choice Voucher Mobility Demonstration, Extension of Application Due Date

AGENCY: Office of the Assistant Secretary for Public and Indian Housing (PIH), Department of Housing and Urban Development (HUD).

ACTION: Notice of extension of application due date.

SUMMARY: On July 15, 2020, HUD published a notice (“Notice”) implementing the Housing Choice Voucher (HCV) mobility demonstration (“demonstration”) authorized by the Consolidated Appropriations Act, 2019. Through this Notice, HUD is making available up to $50,000,000 to participating Public Housing Authorities (PHAs) throughout the country to implement housing mobility programs by offering mobility-related services to increase the number of voucher families with children living in opportunity areas. The Notice established October 13, 2020, as the deadline date for submission of PHA applications and a second Federal Register notice extended the submission deadline to December 14, 2020. Today's Federal Register publication further extends the deadline date for the submission of applications to February 1, 2021.

DATES: The new application deadline date for the HCV Mobility Demonstration Program is February 1, 2021.

FOR FURTHER INFORMATION CONTACT: Rebecca Primeaux, Director, Housing Voucher Management and Operations Division, Department of Housing and Urban Development, 451 Seventh Street SW, Room 4214, Washington, DC 20410, telephone number (202) 708-1112. (This is not a toll-free number.) Individuals with hearing or speech impediments may access this number via TTY by calling the Federal Relay during working hours at 800-877-8339. (This is a toll-free number). HUD encourages submission of questions about the demonstration be sent to HCVmobilitydemonstration@hud.gov.

SUPPLEMENTARY INFORMATION: On July 15, 2020 (85 FR 42890), HUD published its Notice implementing the HCV Mobility Demonstration, and established October 13, 2020, as the deadline date for the submission of applications. Through the Notice, HUD is making available approximately $50,000,000 for grants to Public Housing Authorities (PHAs) under a demonstration program authorized by statute. On October 8, 2020 (85 FR 63569), HUD published a Federal Register notice extending the application deadline to December 14, 2020.

Today's Federal Register publication further extends the deadline date for the submission of applications for the HCV Mobility Demonstration program to February 1, 2021. HUD is extending the submission deadline date while HUD considers, in response to questions HUD has received from PHAs, whether and to what extent PHAs may participate in both the Mobility Demonstration program and the Moving to Work (MTW) expansion program. HUD anticipates publishing another Federal Register notice to address this question.

Deadline for Applications

The lead agency shall be responsible for submitting the application to HUD, no later than February 1, 2021. Applications that are submitted after midnight on February 1, 2021, or which fail to include the required elements, will be ineligible for consideration by HUD.

HUD may extend the application deadline for any program if HUD.gov systems are offline or not available to applicants for at least 24 hours immediately prior to the deadline date, or if the system is down for 24 hours or longer and that impacts the ability of applicants to cure a submission deficiency within the grace period. HUD may also extend the application deadline upon request if there is a presidentially-declared disaster in the applicant's area. If these events occur, HUD will post a notice on its website establishing the new, extended deadline for the affected applicants.

R. Hunter Kurtz,
Assistant Secretary for Public and Indian Housing.

[FR Doc. 2020-26092 Filed 11-24-20; 8:45 am]

BILLING CODE 4210-67-P